DEPARTMENT OF ENERGY

Federal Energy Regulatory Commission

Combined Notice of Filings #1

Take notice that the Commission received the following electric rate filings:

Docket Numbers: ER09-1100-000.

Applicants: Baltimore Gas and Electric Company.

Description: Formal Challenge of the Maryland Office of People's Counsel and Maryland Public Service Commission to Baltimore Gas and Electric's 2024 Formula Rate Annual Update.

Filed Date: 12/30/24.

Accession Number: 20241230-5405.

Comment Date: 5 p.m. ET 1/21/25.

Docket Numbers: ER25-464-001.

Applicants: Southwest Power Pool, Inc.

Description: Tariff Amendment: Amended Tariff Revisions to the NRIS Interconnection Service Product to be effective 2/1/2025.

Filed Date: 1/6/25.

Accession Number: 20250106-5128.

Comment Date: 5 p.m. ET 1/27/25.

Docket Numbers: ER25-858-000.

Applicants: LRE Interconnection Manager, LLC.

Description: 205(d) Rate Filing: Assignment and Assumptions of Co-Tenancy Interests in Shared Facilities to be effective 1/7/2025.

Filed Date: 1/6/25.

Accession Number: 20250106-5036.

Comment Date: 5 p.m. ET 1/27/25.

Docket Numbers: ER25-859-000.

Applicants: PJM Interconnection, L.L.C.

Description: 205(d) Rate Filing: Amendment to ISA, SA No. 6671; Queue No. AF1-038 to be effective 3/8/2025.

Filed Date: 1/6/25.

Accession Number: 20250106-5041.

Comment Date: 5 p.m. ET 1/27/25.

Docket Numbers: ER25-860-000.

Applicants: AEP Texas Inc.

Description: 205(d) Rate Filing: AEPTX-STEC (Palafox) 1st Amended Facilities Development Agreement to be effective 12/9/2024.

Filed Date: 1/6/25.

Accession Number: 20250106-5062.

Comment Date: 5 p.m. ET 1/27/25.

Docket Numbers: ER25-861-000.

Applicants: PJM Interconnection, L.L.C.

Description: 205(d) Rate Filing: Amendment to ISA, Service Agreement No. 7008; Queue No. AG1-191 to be effective 3/7/2025.

Filed Date: 1/6/25.

Accession Number: 20250106-5065.

Comment Date: 5 p.m. ET 1/27/25.

Docket Numbers: ER25-862-000.

Applicants: Antelope Valley BESS, LLC.

Description: 205(d) Rate Filing: Certificates of Concurrence for Shared Facilities Common Ownership Agreements to be effective 1/7/2025.

Filed Date: 1/6/25.

Accession Number: 20250106-5070.

Comment Date: 5 p.m. ET 1/27/25.

Docket Numbers: ER25-863-000.

Applicants: Northern States Power Company, a Wisconsin corporation.

Description: 205(d) Rate Filing: 2025-01-06 NSPW-RFMU SISA to be effective 1/7/2025.

Filed Date: 1/6/25.

Accession Number: 20250106-5154.

Comment Date: 5 p.m. ET 1/27/25.

Docket Numbers: ER25-864-000.

Applicants: PJM Interconnection, L.L.C.

Description: 205(d) Rate Filing: Original GIA, SA No. 7454; Project Identifier No. AE2-048 to be effective 12/6/2024.

Filed Date: 1/6/25.

Accession Number: 20250106-5169.

Comment Date: 5 p.m. ET 1/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 6, 2025.
Carlos D. Clay,
Acting Deputy Secretary.

[FR Doc. 2025-00447 Filed 1-10-25; 8:45 am]

BILLING CODE 6717-01-P